GENERAL SERVICES ADMINISTRATION

[OMB Control No. 3090-0322; Docket No. 2020-0001; Sequence No. 5]

General Services Administration Acquisition Regulation; Submission for OMB Review; Prohibition on Certain Telecommunications and Video Surveillance Services or Equipment Under Lease Acquisitions and Commercial Solution Opening Procurements

AGENCY: Office of the Chief Acquisition Officer, General Services Administration (GSA).

ACTION: Notice of request for comments regarding an extension to an existing OMB clearance.

SUMMARY: Under the provisions of the Paperwork Reduction Act, the Regulatory Secretariat Division will be submitting to the Office of Management and Budget (OMB) a request to review and approve an extension of a previously approved information collection requirement for Prohibition to Certain Telecommunications and Video Surveillance Services or Equipment under Lease Acquisitions and Commercial Solution Openings.

DATES: Submit comments on or before January 28, 2021.

ADDRESSES: Written comments and recommendations for this information collection should be sent within 30 days of publication of this notice to www.reginfo.gov/public/do/PRAMain. Find this particular information collection by selecting “Currently under Review—Open for Public Comments” or by using the search function.

FOR FURTHER INFORMATION CONTACT: Mr. Stephen Carroll, Procurement Analyst, General Services Acquisition Policy Division, 817-253-7858 or via email at gsarpolicy@gsa.gov.

SUPPLEMENTARY INFORMATION:

A. Purpose

The Paperwork Reduction Act (PRA) of 1995 (44 U.S.C. 3501 et seq.) provides that an agency generally cannot conduct or sponsor a collection of information, and no person is required to respond to, nor be subject to, a penalty for failure to comply with a collection of information, unless that collection has obtained Office of Management and Budget (OMB) approval and displays a currently valid OMB Control Number.

GSA requested and OMB authorized emergency processing of an information collection, as OMB Control Number 3090-0322, for the provision at FAR 52.204-24, Representation Regarding Certain Telecommunications and Video Surveillance Services and the clause at FAR 52.204-25, Prohibition on Contracting for Certain Telecommunications and Video Surveillance Services or Equipment, as used under lease acquisitions and commercial solution openings. GSA has determined the following conditions have been met:

a. The collection of information is needed prior to the expiration of time periods normally associated with a routine submission for review under the provisions of the Paperwork Reduction Act, because the prohibitions in Section 889 of the John S. McCain National Defense Authorization Act for Fiscal Year 2019 (Pub. L. 115-232) went into effect on August 13, 2020.

b. The collection of information is essential to GSA's mission to ensure GSA complies with Section 889 in order to protect the Government supply chain from risks posed by covered telecommunications equipment or services.

c. GSA cannot comply with the normal clearance procedures because public harm is reasonably likely to result if current clearance procedures are followed.

This requirement supports implementation of Section 889 of the John S. McCain National Defense Authorization Act for Fiscal Year 2019 (Pub. L. 115-232) under lease acquisitions and commercial solution openings. This section prohibits agencies from procuring, obtaining, extending or renewing a contract with contractors that will provide or use covered telecommunication equipment or services as a substantial or essential component of any system, or as a critical technology as part of any system on or after August 13, 2020 unless an exception applies.

This requirement is implemented in the Federal Acquisition Regulation (FAR) through the provision at FAR 52.204-24, Representation Regarding Certain Telecommunications and Video Surveillance Services or Equipment and the clause at FAR 52.204-25, Prohibition on Contracting for Certain Telecommunications and Video Surveillance Services or Equipment. GSA's Class Deviation CD-2020-15 extends these requirements to lease acquisitions and commercial solution opening procurements.

This clearance covers the following requirements:

FAR 52.204-24 requires an offer or to represent whether they will provide or whether they will use any covered telecommunications equipment or services and if so, describe in more detail the use of the covered telecommunications equipment or services; and

FAR 52.204-25 requires contractors to report covered telecommunications equipment, systems and services identified during performance of a contract.

GSA requested approval of this information collection in order to implement the law. The information will be used by agency personnel to identify and remove prohibited equipment, systems, or services from Government use. Under the Paperwork Reduction Act (PRA) of 1995, Federal agencies must obtain approval from the Office of Management and Budget (OMB) for each collection of information they conduct or sponsor.

B. Annual Reporting Burden

1. FAR 52.204-24 for GSA Lease Acquisitions

Respondents: 3,128.

Responses per Respondent: 1.

Total Responses: 3,128.

Hours per Response: 3.

Total Burden Hours: 9,384.

2. FAR 52.204-25 for GSA Lease Acquisitions

Respondents: 313.

Responses per Respondent: 5.

Total Responses: 1,565.

Hours per Response: 3.

Total Burden Hours: 4,695.

C. Public Comments

A 60-day notice was published in the Federal Register at 85 FR 61748 on September 30, 2020. No comments were received.

Obtaining copies of proposals: Requesters may obtain a copy of the information collection documents from the GSA Regulatory Secretariat Division, by calling 202-501-4755 or emailing GSARegSec@gsa.gov.

Please cite “Information Collection 3090-0322”, in all correspondence.

Jeffrey Koses,
Senior Procurement Executive, Office of Acquisition Policy, Office of Government-wide Policy.

[FR Doc. 2020-28704 Filed 12-28-20; 8:45 am]

BILLING CODE 6820-61-P